DEPARTMENT OF COMMERCE

National Oceanic and Atmospheric Administration

Agency Information Collection Activities; Submission to the Office of Management and Budget (OMB) for Review and Approval; Comment Request; Proposed Information Collection; Comment Request; U.S.-Canada Albacore Treaty Reporting System

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 4, 2023.

ADDRESSES: Interested persons are invited to submit written comments to Adrienne Thomas, NOAA PRA Officer, at NOAA.PRA@noaa.gov. Please reference OMB Control Number 0648-0492 in the subject line of your comments. Do not submit Confidential Business Information or otherwise sensitive or protected information.

FOR FURTHER INFORMATION CONTACT: Requests for additional information or specific questions related to collection activities should be directed to Karen Palmigiano, National Marine Fisheries Service (NMFS), karen.palmigiano@noaa.gov, 206-526-4491, West Coast Region (WCR) Permits Branch, 7600 Sand Point Way NE, Bldg. 1, Seattle, WA 98115.

SUPPLEMENTARY INFORMATION:

I. Abstract

This request is for an extension of a currently approved information collection.

The National Marine Fisheries Service (NMFS), West Coast Region (WCR), manages the United States (U.S.)—Canada Albacore Tuna Treaty of 1981 (Treaty). Owners of vessels that fish from U.S. West Coast ports for albacore tuna (Thunnus alalunga) are required to notify the NMFS WCR of their desire to be on the list of vessels provided to Canada each year indicating vessels eligible to fish for albacore tuna in waters under the jurisdiction of Canada. Additionally, vessel operators are required to report in advance their intention to fish in Canadian waters prior to crossing the maritime border as well as to mark their fishing vessels to facilitate enforcement of the effort limits under the Treaty. Vessel operators are also required to maintain and submit a logbook of all catch and fishing effort. The regulations implementing the reporting and vessel marking requirements under the Treaty are at 50 CFR part 300.172-300.176. If a vessel enters into Canadian waters without adhering to these regulations, they will be in violation of the treaty and Canadian enforcement may issue a fine or a warning.

The estimated burden below includes hours to complete the logbook requirement, although it is assumed that most if not all of the respondents already complete the required logbook under the mandatory West Coast Highly Migratory Species Fishery Management Plan (HMS FMP), OMB Control No. 0648-0223. Duplicate reporting under the Treaty and HMS FMP is not required. Most years, there will be much less fishing (and thus less reporting) under the Treaty than the level on which the estimate is based.

II. Method of Collection

Requests to be placed on the vessel eligibility list may be made by telephone or in writing via mail, fax, or email. Communications to comply with `hail in' and `hail out' requirements are made via ship to shore radio or via telephone and are compiled in an electronic database by Fisheries and Oceans Canada. Summaries of hail reports are provided to NMFS on a periodic basis. Vessel marking requirements entail painting the letter `U' immediately after the U.S. Coast Guard documentation identification number or state registration number already on the vessel. Logbooks are maintained in preprinted paper format and submitted via mail.

III. Data

OMB Control Number: 0648-0492.

Form Number(s): None.

Type of Review: Regular submission (extension of current information collection).

Affected Public: Businesses and other for-profit institutions.

Estimated Number of Respondents: 135.

Estimated Time per Response: Five minutes for the request to be placed on the eligible list per year; 2 hours and 55 minutes for required vessel markings; 10 minutes for logbook entries; 5 minutes for each set of two hail reports for border crossings per year.

Estimated Total Annual Burden Hours: 43 hours.

Estimated Total Annual Cost to Public: $250.

Respondent's Obligation: Mandatory.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-21994 Filed 10-3-23; 8:45 am]

BILLING CODE 3510-22-P